DEPARTMENT OF THE INTERIOR

Fish and Wildlife Service

Proposed Low Effect Habitat Conservation Plan for the Pioneer Meadows Development in Washoe County, NV

AGENCY: Fish and Wildlife Service, Interior.

ACTION: Notice of availability; receipt of application.

SUMMARY: This notice advises the public that Pioneer Meadows Development, LLC; BCI Properties, LLC; DBJ Holdings, LLC; BB Investment Holdings, LLC; and BPHI, LLC (Applicants) have applied to the Fish and Wildlife Service (Service) for an incidental take permit (permit), pursuant to section 10(a)(1)(B) of the Endangered Species Act of 1973, as amended (Act). The Applicants have requested a 42-month permit to authorize the incidental take of the endangered Carson wandering skipper (Psuedocopaeodes eunus obscurus, “skipper”) on 39 acres of habitat associated with the development of a mixed residential and commercial use community within the city limits of Sparks, Nevada.

We are requesting comments on the permit application (application) and on whether the proposed Habitat Conservation Plan (HCP) qualifies as a “low-effect” HCP eligible for a categorical exclusion under the National Environmental Policy Act (NEPA) of 1969, as amended. We explain the basis for this possible determination in a draft Environmental Action Statement (EAS), which is also available for public review.

DATES: Written comments must be received by 5 p.m. on July 18, 2005.

ADDRESSES: Comments should be addressed to Robert D. Williams, Field Supervisor, Fish and Wildlife Service, Nevada Fish and Wildlife Office, 1340 Financial Boulevard, Suite 234, Reno, Nevada 89502-7147, fax number (775) 861-6301 (for further information and instruction on the reviewing and commenting process, see Public Review and Comment section below).

FOR FURTHER INFORMATION CONTACT: Jody Brown, Deputy Field Supervisor, Fish and Wildlife Service (see ADDRESSES) telephone (775) 861-6300.

SUPPLEMENTARY INFORMATION:

Availability of Documents

Individuals wishing copies of the application, proposed HCP, or EAS should contact the Service by telephone (see FOR FURTHER INFORMATION CONTACT) or by letter (see ADDRESSES). Copies of the subject documents are also available for public inspection during regular business hours at the Nevada Fish and Wildlife Office (see ADDRESSES).

Background

Section 9 of the Act (16 U.S.C. 1531 et seq.) and Federal regulations prohibit the “take” of a fish or wildlife species listed as endangered or threatened. The definition of take of federally listed fish or wildlife under section 3 of the Act is to “harass, harm, pursue, hunt, shoot, wound, kill, trap, capture or collect, or to attempt to engage in such conduct” (16 U.S.C. 1538). The Service may, under limited circumstances, issue permits to authorize “incidental take” of listed species. “Incidental take” is defined by the Act as take that is incidental to, and not the purpose of, carrying out an otherwise lawful activity. Regulations governing permits for threatened species and endangered species, respectively, are at 50 CFR 17.32 and 50 CFR 17.22. The Applicants are seeking a permit for the incidental take of the skipper during the requested 42-month term of the permit.

The Applicants propose to develop and carry out construction activities on 610 acres of project lands, comprising a mixed residential and commercial use community, including improvements for residential, retail, industrial, and office use. Specifically, this includes approximately 1,325 single family residences, 800 apartment units, a commercial shopping center, a business park, offices, and other commercial purposes. Of the project's 610 acres, 39 acres (Habitat Area) have been determined to provide suitable habitat for the Carson wandering skipper, based on an extensive habitat component survey and the sighting of one individual skipper on the Habitat Area. The Habitat Area is proposed to be completely developed, which would result in the incidental take of the skipper and the permanent loss of 39 acres of occupied habitat that also support the larval host plant, salt grass (Distichlis spicata), nectar sources, and alkaline soils. Therefore, the Applicants are requesting a permit for only the 39 acres of Habitat Area considered suitable habitat for the skipper.

The proposed minimization and mitigation measures include the acquisition of 39 acres offsite to mitigate for the 39 acres that would be lost within the project area. The proposed acquired property would provide habitat of equal or greater value than the on-site parcel, protect an existing skipper population or occur in the vicinity of an existing population, and be acquired within 42 months of permit issuance. Management of the acquired off-site lands would be by an undetermined third party. Funds would be provided by the Applicants for management and monitoring of these mitigation lands in perpetuity.

Approval of the HCP may qualify for a categorical exclusion under NEPA, as provided by the Departmental Manual (516 DM 2, Appendix 1 and 516 DM 6, Appendix 1). The proposed HCP also may qualify as a “low-effect” plan as defined by the Habitat Conservation Planning Handbook (Service, November, 1996). Determination of whether an HCP is low effect is based on the following criteria: (1) Minor or negligible effects on federally listed, proposed, or candidate species and their habitats; (2) minor or negligible effects on other environmental values or resources; and (3) impacts of the proposed HCP, considered together with the impacts of other past, present, and reasonably foreseeable similarly situated projects, would not result, over time, in significant cumulative effects to the environmental values or resources. If the Service determines that the Applicants' HCP qualifies as a low-effect HCP, further NEPA documentation would not be required.

Public Review and Comment

If you wish to comment on the application, EAS, or the proposed HCP, you may submit your comments to the address listed in the ADDRESSES section of this document. We will evaluate this application, associated documents, and comments submitted thereon to determine whether the application meets the requirements of section 10(a) of the Act and NEPA regulations. Individual respondents may request that we withhold their home address from the record, which we will honor to the extent allowable by law. There also may be circumstances in which we would withhold from the record your name and/or address; you must make this request prominently at the beginning of your comment. Anonymous comments will not be considered. All submissions from organizations or businesses, and from individuals identifying themselves as representatives or officials of organizations or businesses, are available for public inspection in their entirety.

If we determine that the permit requirements are met, we will issue an incidental take permit under section 10(a)(1)(B) of the Act to the Applicants for take of the skipper, incidental to otherwise lawful activities in accordance with the terms of the permit. We will not make our final decision until after the end of the 30-day comment period and will fully consider all comments received during the comment period.

The Service provides this notice pursuant to section 10 (c) of the Act and pursuant to implementing regulations for NEPA (40 CFR 1506.6).

Dated: June 13, 2005.
Ken McDermond
Deputy Manager, California/Nevada Operations Office, Sacramento, California.

[FR Doc. 05-11977 Filed 6-16-05; 8:45 am]

BILLING CODE 4310-55-P